DEPARTMENT OF ENERGY

Federal Energy Regulatory Commission

[Docket No. RD23-4-000]

Commission Information Collection Activities (FERC-725G)

AGENCY: Federal Energy Regulatory Commission.

ACTION: Notice of information collection and request for comments.

SUMMARY: In compliance with the requirements of the Paperwork Reduction Act of 1995, the Federal Energy Regulatory Commission (Commission or FERC) is soliciting public comment on the proposed changes currently approved information collection, FERC-725G (Mandatory Reliability Standards for the Bulk-Power System: Approval of PRC Reliability Standard PRC-002-4). No Comments were received on the 60-day notice published on June 23, 2023.

DATES: Comments on the collection of information are due August 10, 2023.

ADDRESSES: Send written comments on FERC-725G (Mandatory Reliability Standards for the Bulk-Power System: PRC Reliability Standard PRC-002-4) to OMB through www.reginfo.gov/public/do/PRAMain. Attention: Federal Energy Regulatory Commission Desk Officer. Please identify the OMB Control No: 1902-0252 in the subject line of your comments. Comments should be sent within 30 days of publication of this notice to www.reginfo.gov/public/do/PRAMain.

Please submit copies of your comments to the Commission. You may submit copies of your comments (identified by Docket No. RD23-4-000) by one of the following methods: Electronic filing through https://www.ferc.gov, is preferred.

• Electronic Filing: Documents must be filed in acceptable native applications and print-to-PDF, but not in scanned or picture format.

• For those unable to file electronically, comments may be filed by USPS mail or by hand (including courier) delivery.

○ Mail via U.S. Postal Service Only: Addressed to: Federal Energy Regulatory Commission, Secretary of the Commission, 888 First Street NE, Washington, DC 20426.

○ Hand (including courier) Delivery: Deliver to: Federal Energy Regulatory Commission, Secretary of the Commission, 12225 Wilkins Avenue, Rockville, MD 20852.

Instructions: OMB submissions must be formatted and filed in accordance with submission guidelines at www.reginfo.gov/public/do/PRAMain. Using the search function under the “Currently Under Review” field, select Federal Energy Regulatory Commission; click “submit,” and select “comment” to the right of the subject collection.

FERC submissions must be formatted and filed in accordance with submission guidelines at: https://www.ferc.gov. For user assistance, contact FERC Online Support by email at ferconlinesupport@ferc.gov, or by phone at: (866) 208-3676 (toll-free).

Docket: Users interested in receiving automatic notification of activity in this docket or in viewing/downloading comments and issuances in this docket may do so at https://www.ferc.gov/ferc-online/overview.

FOR FURTHER INFORMATION CONTACT: Ellen Brown may be reached by email at DataClearance@FERC.gov, telephone at (202) 502-8663.

SUPPLEMENTARY INFORMATION:

Title: FERC-725G (Mandatory Reliability Standards for the Bulk-Power System: Approval of PRC Reliability Standard PRC-002-4).

OMB Control No.: 1902-0252.

Type of Request: Approval of FERC-725G information collection requirements associated with proposed PRC Reliability Standard PRC-002-4.

Abstract: This Notice pertains to the FERC-725G information collection requirements associated with PRC Reliability Standard PRC-002-4, (Disturbance Monitoring and Reporting Requirements), the associated Violation Risk Factors and Violation Severity Levels, and the proposed implementation plan that includes the retirement of the currently effective Reliability Standard PRC-002-3. The PRC-002-4 was proposed by the North American Electric Reliability (NERC) in a petition dated March 10, 2023. At that time, NERC also proposed the retirement of Reliability Standard PRC-002-3. The Commission included the petition in a Combined Notice of Filings published on March 23, 2023, at 88 FR 17564.

On March 4, 2022, the Commission's Office of Electric Reliability approved PRC-002-3 in Docket No. RD22-2-000.

NERC's proposed revisions in Docket No. RD23-4-000: (1) clarify requirements for notifications under the standard, including when generator owners and transmission owners must have data for an applicable transformer or transmission line; (2) clarify and make consistent terminology used in the Standard; (3) incorporate the implementation timeframe for newly-identified facilities; and (4) add a criterion defining substantial changes in fault current levels requiring changing the locations for which certain data is recorded.

The proposed Reliability Standard PRC-002-4 (Disturbance Monitoring and Reporting Requirements) would advance the reliability of the bulk electric system (BES) by providing needed clarity regarding the application of the standard's requirements. First, proposed Reliability Standard PRC-002-4 would clarify requirements for notifications under the standard, including when Generator Owners and Transmission Owners must have data for an applicable transformer or transmission line. Second, the proposed Reliability Standard clarifies and promotes consistency in terminology used in the standard. Third, the proposed Reliability Standard brings the implementation timeframe for newly identified facilities into the standard. Last, the proposed Reliability Standard adds a criterion that defines what constitutes a substantial change in fault current levels that would require changing the locations for which sequence of events (SER) and fault recording (FR) data is recorded. The revisions and supporting rationale are discussed in further detail below.

The proposed change to the Bulk Electric System (BES) allows the possibility of significant change over time without a required change in data recording location. The Reliability Standard PRC-002-4 would provide necessary clarifications to the standard in the requirements R1, R3 and R5 and promotes consistency in terminology used in the standard. The new requirement R13 brings the implementation timeframe for newly identified facilities into the standard. These changes would clarify the extent of the required notifications and data collection requirements consistent with other provisions in the currently effective and approved versions of the PRC-002 standard. The number of respondents below is based on an estimate of the NERC compliance registry for balancing authority, transmission operator, generator operator, generator owner and reliability coordinator. The Commission based its paperwork burden estimates on the NERC compliance registry as of February 10, 2023. According to the registry, there are 325 transmission owners, 1,117 generator owners and 12 reliability coordinators. The estimates are based on the change in burden from the currently pending standard (i.e., PRC-002-3) to the standard approved in this Docket (i.e., PRC-002-4). The Commission based the burden estimates on staff experience, knowledge, and expertise.

The estimates are based on one-time (years 1 and 2) obligations to follow the revised Reliability Standard.

Proposed Changes Due to Order in Docket No. RD23-4-000
Reliability standard & requirement | Type ¹ and number of entity | Number of annual responses per entity | Total number of responses | Average number of burden hours per response ² | Total burden hours
| (1) | (2) | (1) * (2) = (3) | (4) | (3) * (4) = (5)
FERC-725G
PRC-002-4
TO | 325 | 1 | 325 | 16 hrs. $978.72 | 5,200 hrs. $318,084
GO | 1,117 | 1 | 1,117 | 16 hrs. $978.72 | 17,872 hrs. $1,093,230.24
RC | 12 | 1 | 12 | 8 hrs. $489.36 | 96 hrs. $5,872.32
Total for PRC-002 |  |  | 1,454 | 40 hrs. | 23,168 hrs.
One Time Estimate—Years 1 and 2 |  |  |  | $2,446.8 | $1,417,186.56.

The one-time burden of 23,168 hours only applies to Year 1 and 2 and will be averaged over three years (23,168 hours ÷ 3 = 7,722.667 (7,722.67−rounded) hours/year over three years). The number of responses is also averaged over three years (1,454 responses ÷ 3 = 484.667 (484.67−rounded) responses/year).

¹ TO = Transmission Owner, GO = Generator Owner and RC = Reliability Coordinator.

² The estimated hourly cost (salary plus benefits) derived using the following formula: Burden Hours per Response * $/hour = Cost per Response. Based on the Bureau of Labor Statistics (BLS), as of February 10, 2023, of an Electrical Engineer (17-2071)−$77.02,−and for Information and Record Clerks (43-4199) $42.35, the average hourly burden cost for this collection is [($77.02 + $42.35)/2 = $61.17)] rounded to $61.17 an hour.

The responses and burden hours for Years 1-3 will total respectively as follows for Year 1 one-time burden:

Year 1: 484.67 responses; 7,722.67 hours

Year 2: 484.67 responses; 7,722.67 hours

Year 3: 484.67 responses; 7,722.67 hours

The ongoing burden for FERC 725G that includes PRC-002-4 remains unchanged. The increase in burden is considered to only be necessary for the first two years. During those years 1 and 2, applicable entities will modify the procedures to account for handling notifications and sharing data. Other changes to the requirements are largely clarifications in language or help establish triggers that should be used and to where measuring equipment would be placed. After the first two years the modifications will be integrated into normal business and engineering procedures of the entity, and it will be part of normal tasks to demonstrate compliance.

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: July 3, 2023.
Kimberly D. Bose,
Secretary.

[FR Doc. 2023-14476 Filed 7-10-23; 8:45 am]

BILLING CODE 6717-01-P